DEPARTMENT OF ENERGY

Federal Energy Regulatory Commission

Combined Notice of Filings #1

Take notice that the Commission received the following electric rate filings:

¹ Johnny Isakson, David Perdue, and Earl L. `Buddy' Carter.

Docket Numbers: ER10-2192-026 ER15-1537-003; ER15-1539-003; ER10-2178-026; ER13-1536-010; ER11-2010-023; ER12-1829-013; ER12-1223-018

² Meeting Summary from December 10, 2015 call with FERC, HDR Engineering, Inc., and International Paper regarding Columbia to Eastover Project.

Applicants: Constellation Energy Commodities Group Maine, LLC, Constellation Energy Services, Inc., Constellation Energy Services of New York, Inc., Constellation NewEnergy, Inc., Exelon Generation Company, LLC, Exelon Wind 4, LLC, Shooting Star Wind Project, LLC, Wildcat Wind, LLC

³ Richard Hudson, Renee Ellmers, George Holding, and Davis Rouzer.

Description: Updated Market Power Analysis for the Southwest Power Pool Region of the Exelon SPP Entities.

Filed Date: 12/29/15.

Accession Number: 20151229-5163.

Comments Due: 5 p.m. ET 2/29/16.

Docket Numbers: ER16-180-001.

Applicants: Public Service Company of Colorado.

Description: Tariff Amendment: 20151229_Amended JDA to be effective 1/1/2016.

Filed Date: 12/29/15.

Accession Number: 20151229-5208.

Comments Due: 5 p.m. ET 1/19/16.

Docket Numbers: ER16-641-000.

Applicants: Public Service Company of New Mexico

Description: Tariff Cancellation: Notice of Cancellation of Expedited Service Agreement to be effective 12/10/2015.

Filed Date: 12/28/15.

Accession Number: 20151228-5226.

Comments Due: 5 p.m. ET 1/19/16.

Docket Numbers: ER16-642-000.

Applicants: Idaho Power Company.

Description: Section 205(d) Rate Filing: PAC Imnaha NITSA April 2016 to be effective 4/1/2016.

Filed Date: 12/29/15.

Accession Number: 20151229-5003.

Comments Due: 5 p.m. ET 1/19/16.

Docket Numbers: ER16-643-000.

Applicants: Golden Spread Electric Cooperative, Inc.

Description: Section 205(d) Rate Filing: WPC 2016 TCEC Ex C Filing to be effective 1/31/2016.

Filed Date: 12/29/15.

Accession Number: 20151229-5142.

Comments Due: 5 p.m. ET 1/19/16.

Docket Numbers: ER16-644-000.

Applicants: Entergy Services, Inc.

Description: Application of Entergy Services, Inc. on behalf of Entergy Arkansas, Inc. to collect nuclear decommissioning costs for Nuclear One Unit 2 generating plant.

Filed Date: 12/29/15.

Accession Number: 20151229-5162.

Comments Due: 5 p.m. ET 1/19/16.

Docket Numbers: ER16-645-000.

Applicants: RE Barren Ridge 1 LLC.

Description: Baseline eTariff Filing: Application for MBR to be effective 2/29/2016.

Filed Date: 12/29/15.

Accession Number: 20151229-5173.

Comments Due: 5 p.m. ET 1/19/16.

Docket Numbers: ER16-646-000.

Applicants: PJM Interconnection, L.L.C., American Electric Power Service Corporation.

Description: Section 205(d) Rate Filing: AEPSC submits updated depreciation rate revisions to Attach. H-14 and H-20 to be effective 7/1/2016.

Filed Date: 12/29/15.

Accession Number: 20151229-5183.

Comments Due: 5 p.m. ET 1/19/16.

Docket Numbers: ER16-647-000.

Applicants: Otter Tail Power Company.

Description: Section 205(d) Rate Filing: Revisions to Service Agreement No. 4 Under the CASOT to be effective 1/1/2016.

Filed Date: 12/29/15.

Accession Number: 20151229-5211.

Comments Due: 5 p.m. ET 1/19/16.

Take notice that the Commission received the following electric securities filings:

Docket Numbers: ES16-18-000.

Applicants: NorthWestern Corporation.

Description: Application for Authorization Under Section 204 of the Federal Power Act to Issue Securities of NorthWestern Corporation.

Filed Date: 12/28/15.

Accession Number: 20151228-5287.

Comments Due: 5 p.m. ET 1/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2015.
Nathaniel J. Davis, Sr.,
Deputy Secretary.

[FR Doc. 2015-33121 Filed 1-4-16; 8:45 am]

BILLING CODE 6717-01-P